DEPARTMENT OF THE INTERIOR

Bureau of Land Management

[A2407-014-004-065516, #O2509-014-004-125222; LLMT4820002691]

Proposed Filing of Plats of Survey; North Dakota and South Dakota

AGENCY: Bureau of Land Management, Interior.

ACTION: Notice of official filing.

SUMMARY: The plats of surveys for the lands described in this notice are scheduled to be officially filed 30 calendar days after the date of this publication in the Bureau of Land Management (BLM) Montana/Dakotas State Office, Billings, Montana. The surveys, which were executed at the request of the Bureau of Indian Affairs, Great Plains Region, Aberdeen, South Dakota are necessary for the management of these lands.

DATES: A person or party who wishes to protest this decision must file a notice of protest in time for it to be received in the BLM Montana/Dakotas State Office no later than April 2, 2026.

ADDRESSES: A copy of the plats may be obtained from the Public Room at the BLM Montana State Office, 5001 Southgate Drive, Billings, Montana 59101, upon required payment. The plats may be viewed at this location at no cost.

FOR FURTHER INFORMATION CONTACT: Thomas L. Laakso, BLM Chief Cadastral Surveyor for Montana/Dakotas, telephone: (406) 896-5125; email: tlaakso@blm.gov. Individuals in the United States who are deaf, deafblind, hard of hearing, or have a speech disability may dial 711 (TTY, TDD, or TeleBraille) to access telecommunications relay services for contacting Mr. Laakso. Individuals outside the United States should use the relay services offered within their country to make international calls to the point-of-contact in the United States.

SUPPLEMENTARY INFORMATION: The lands surveyed are represented on the plats of surveys described below:

Fifth Principal Meridian, North Dakota

The dependent resurvey of section 25, Township 162 North, Range 71 West, accepted September 03, 2025, for Group No. 111.

Fifth Principal Meridian, South Dakota

The dependent resurvey of section 20, Township 94 North, Range 64 West, accepted September 03, 2025, for Group No. 196.

A person or party who wishes to protest an official filing of a plat of survey identified earlier must file a written notice of protest with the BLM State Director for Montana at the address listed in the ADDRESSES section of this notice.

The notice of protest must identify the specific plat(s) of survey that the person or party wishes to protest. The notice of protest must be received in the BLM Montana State Office no later than the scheduled date of the proposed official filing plat(s) of survey being protested, see the DATES section earlier; if received after regular business hours, a notice of protest will be considered filed the next business day. Any notice of protest filed after the scheduled date of official filing will be untimely and will not be considered.

A written statement of reasons in support of the protest, if not filed with the notice of protest, must be filed with the BLM State Director for Montana within 30 days after the notice of protest is received.

If a notice of protest of the official filing plat(s) of survey is received prior to the scheduled date of official filing, the official filing of the plat(s) of survey identified in the notice of protest will be stayed pending consideration of the protest. Plat(s) of survey will not be officially filed until the next business day after all timely protests have been dismissed or otherwise resolved.

Before including your address, phone number, email address, or other personal identifying information in a notice of protest, you should be aware that the documents you submit, including your personal identifying information, may be made publicly available in their entirety at any time. While you can ask us to withhold your personal identifying information from public review, we cannot guarantee that we will be able to do so.

(Authority: 43 U.S.C. chapter 3)

Thomas L. Laakso,
Chief Cadastral Surveyor for Montana.

[FR Doc. 2026-04184 Filed 3-2-26; 8:45 am]

BILLING CODE 4331-20-P